DEPARTMENT OF THE INTERIOR

Bureau of Land Management

[BLM_OR_FRN_MO4500170709]

Public Meeting for the Steens Mountain Advisory Council, Oregon

AGENCY: Bureau of Land Management, Interior.

ACTION: Notice of public meeting.

SUMMARY: In accordance with the Federal Land Policy and Management Act of 1976 and the Federal Advisory Committee Act of 1972, the U.S. Department of the Interior, Bureau of Land Management's (BLM) Steens Mountain Advisory Council (SMAC) will meet as follows.

DATES: The SMAC will hold a field tour of the Steens Mountain Cooperative Management and Protection Area, Thursday, June 15, 2023, from 10 a.m. to 4:30 p.m. PT, and an in-person business session on Friday, June 16, from 8:30 a.m. to 12:30 p.m. PT.

ADDRESSES: The meeting will be held at the Frenchglen School at 39235 Highway 205 in Frenchglen, Oregon. Field tour participants will meet at the Frenchglen school on Thursday to carvan. Virtual attendance through the Zoom for Government platform will be available on Friday. The final meeting agenda and Zoom link will be published on the SMAC web page at least 10 days in advance at https://on.doi.gov/2PnZRcl.

FOR FURTHER INFORMATION CONTACT: Tara Thissell, Public Affairs Specialist, BLM Burns District Office, 28910 Highway 20 West, Hines, Oregon 97738; telephone: (541) 573-4519; email: tthissell@blm.gov. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: The SMAC was established on August 14, 2001, pursuant to the Steens Mountain Cooperative Management and Protection Act of 2000 (Pub. L. 106-399). The SMAC provides recommendations to the BLM regarding new and unique approaches to management of the public lands within the bounds of the Steens Mountain Cooperative Management and Protection Area, recommends cooperative programs and incentives for landscape management that meet human needs, and advises the BLM on potential maintenance and improvement of the ecological and economic integrity of the area.

Agenda items for the 2-day meeting include a field tour of the Steens Mountain area. Tour stops may vary depending on road, weather, and access conditions, but could include Riddle Brothers Ranch, Page Springs Weir, or fuels treatment project sites. The public is welcome to attend but must provide their own transportation and personal amenities, such as appropriate clothing and footwear, food, and water. High-clearance, four-wheel drive vehicles are recommended.

The June 16 business session includes information sharing from the Designated Federal Official and the Andrews/Steens Field Manager, a brief recreation program update, discussion of the Bridge Creek Area Allotment Management Plan Environmental Impact Statement, a review of the Steens Act and reasonable access, and an opportunity for committee members to share information from their constituents or present research. Any other matters that may reasonably come before the SMAC may also be included.

A public comment period will be available at 11 a.m. on Friday, June 16. Depending on the number of people wishing to comment and the time available, the amount of time for oral comments may be limited. Written public comments may be sent to the BLM Burns District Office listed in the FOR FURTHER INFORMATION CONTACT section of this notice. All comments received at least 1 week prior to the meeting will be provided to the SMAC prior to the meeting. The meeting may end early if all business items are completed ahead of schedule or may be extended if discussions warrant more time. All meetings, including virtual sessions, are open to the public in their entirety.

Please make requests in advance for sign language interpreter services, assistive listening devices, or other reasonable accommodations. We ask that you contact the person listed in the FOR FURTHER INFORMATION CONTACT section of this notice at least 7 business days prior to the meeting to give the BLM sufficient time to process your request. All reasonable accommodation requests are managed on a case-by-case basis.

Public Disclosure of Comments: Before including your address, phone number, email address, or other personal identifying information in your comments, please be aware that your entire comment—including your personal identifying information—may be made publicly available at any time. While you can ask us in your comment to withhold your personal identifying information from public review, we cannot guarantee that we will be able to do so.

(Authority: 5 U.S.C. 10)

Bruce Loranger,
Deputy District Manager.

[FR Doc. 2023-10118 Filed 5-11-23; 8:45 am]

BILLING CODE 4331-24-P